DEPARTMENT OF COMMERCE

Office of the Under Secretary for Economic Affairs

Advisory Committee on Data for Evidence Building

AGENCY: Office of the Under Secretary for Economic Affairs, U.S. Department of Commerce.

ACTION: Notice of public meeting.

SUMMARY: The Office of the Under Secretary for Economic Affairs is providing notice of an upcoming meeting of the Advisory Committee on Data for Evidence Building (ACDEB or Committee). This will constitute the ninth meeting of the Committee in support of its charge to review, analyze, and make recommendations on how to promote the use of Federal data for evidence building purposes. At the conclusion of the Committee's first and second year, it will submit to the Director of the Office of Management and Budget, Executive Office of the President, an annual report on the activities and findings of the Committee. This report will also be made available to the public.

DATES: June 18, 2021. The meeting will begin at approximately 9:00 a.m. and adjourn at approximately 11:00 a.m. (ET).

ADDRESSES: Those interested in attending the Committee's public meetings are requested to RSVP to Evidence@bea.gov one week prior to each meeting. Agendas, background material, and meeting links will be accessible 24 hours prior to each meeting at www.bea.gov/evidence.

Members of the public who wish to submit written input for the Committee's consideration are welcomed to do so via email to Evidence@bea.gov. Additional opportunities for public input will be forthcoming.

The safety and well-being of the public, committee members, and our staff are our top priority. In light of current travel restrictions and social-distancing guidelines resulting from the COVID-19 outbreak, each meeting will be held virtually.

FOR FURTHER INFORMATION CONTACT: Gianna Marrone, Program Analyst, U.S. Department of Commerce, 4600 Silver Hill Road (BE-64), Suitland, MD 20746; phone (301) 278-9282; email Evidence@bea.gov.

SUPPLEMENTARY INFORMATION: The Foundations for Evidence-Based Policymaking Act (Pub. L. 115-435, Evidence Act 101(a)(2) (5 U.S.C. 315 (a)), establishes the Committee and its charge. It specifies that the Chief Statistician of the United States shall serve as the Chair and other members shall be appointed by the Director of the Office of Management and Budget (OMB). The Act prescribes a membership balance plan that includes: One agency Chief Information Officer; one agency Chief Privacy Officer; one agency Chief Performance Officer; three members who are agency Chief Data Officers; three members who are agency Evaluation Officers; and three members who are agency Statistical Officials who are members of the Interagency Council for Statistical Policy established under section 3504(e)(8) of title 44. Additionally, at least 10 members are to be representative of state and local governments and nongovernmental stakeholders with expertise in government data policy, privacy, technology, transparency policy, evaluation and research methodologies, and other relevant subjects. Committee members serve for a term of two years. Following a public solicitation and review of nominations, the Director of OMB appointed members per this balance plan and information on the membership can be found at www.bea.gov/evidence. Any member appointed to fill a vacancy occurring before the expiration of the term for which the member's predecessor was appointed shall be appointed only for the remainder of that term.

The ACDEB is interested in the public's input on the issues it will consider, and requests that interested parties submit statements to the ACDEB via email to Evidence@bea.gov. Please use the subject line “ACDEB Meeting Public Comment.” All statements will be provided to the members for their consideration and will become part of the Committee's records. Additional opportunities for public input will be forthcoming as the Committee's work progresses.

ACDEB Committee meetings are open, and the public is invited to attend and observe. Those planning to attend are asked to RSVP to Evidence@bea.gov. The call-in number, access code, and meeting link will be posted 24 hours prior to each meeting on www.bea.gov/evidence. The meetings are accessible to people with disabilities. Requests for foreign language interpretation or other auxiliary aids should be directed to Gianna Marrone at Evidence@bea.gov two weeks prior to each meeting.

Dated: June 2, 2021.
Alyssa Holdren,
Designated Federal Officer, U.S. Department of Commerce.

[FR Doc. 2021-11908 Filed 6-7-21; 8:45 am]

BILLING CODE 3510-MN-P